Proclamation 9267 of April 30, 2015

National Mental Health Awareness Month, 2015

By the President of the United States of America

A Proclamation

This year, approximately one in five American adults—our friends, colleagues, and loved ones—will experience a diagnosable mental health condition like depression, anxiety, bipolar disorder, schizophrenia, or post-traumatic stress, and many others will be troubled by significant emotional and psychological distress, especially in times of difficulty. For most of these people, treatment can be effective and recovery is possible. Yet today, millions of Americans still do not receive the care they need. This month, we stand with those who live with mental illness, and we recommit to ensuring all Americans have access to quality, affordable care.

In the past decade, our Nation has made extraordinary progress in recognizing severe psychological distress and diagnosing and treating mental illness, and my Administration is committed to building on that success. The Affordable Care Act extends mental health and substance use disorder benefits and parity protections to over 60 million Americans. Protections under the law also prohibit insurers from denying coverage because of pre-existing conditions like a diagnosis of mental illness and require most insurance plans to cover recommended preventive services without copays, including behavioral assessments for children and depression screenings. As part of the BRAIN Initiative, we are funding innovative research that aims to revolutionize our understanding of conditions that affect the brain, such as mental health disorders, and to improve the lives of all who live with them. And we continue to invest in community health centers, enabling them to expand access to mental health services where they are needed most.

As Americans, we have a sacred obligation to provide those who suffer from the invisible wounds of war with the support they have earned. Earlier this year, I was proud to sign the Clay Hunt SAV Act, which authorized additional steps to address mental health and prevent suicide among veterans. This law will build on my Administration's ongoing work to bolster mental health services for service members, veterans, and their families. We recently established a new policy that will ensure the continuity of mental health medications during service members' transitions to care at the Department of Veterans Affairs (VA), and we took action to make certain those receiving mental health care are connected to mental health professionals as they transition to the VA or a community provider. My Administration has also worked to increase the number of counselors available to our veterans and to expand the capacity of the Veterans Crisis Line.

Despite how common it is to experience severe psychological distress, substance use problems, and mental illness, there is still considerable stigma associated with mental health treatment. This month, we must bring mental illness out of the shadows and encourage treatment for those who might benefit; it is our shared responsibility to recognize the signs of psychological and emotional distress and to support those in need. We must strive to remove the stigma around mental illness and its treatment, overcome fear and misunderstanding, and make sure all those dealing with a mental health issue know they are not alone. Asking for help is not a sign of weakness—taking action to help yourself is a sign of strength. If you or someone you know is in need of immediate assistance, call 1-800-662-HELP. The National Suicide Prevention Lifeline also offers immediate assistance for all Americans, including service members and veterans, at 1-800-273-TALK.

NOW, THEREFORE, I, BARACK OBAMA, President of the United States of America, by virtue of the authority vested in me by the Constitution and the laws of the United States, do hereby proclaim May 2015 as National Mental Health Awareness Month. I call upon citizens, government agencies, organizations, health care providers, and research institutions to raise mental health awareness and continue helping Americans live longer, healthier lives.

IN WITNESS WHEREOF, I have hereunto set my hand this thirtieth day of April, in the year of our Lord two thousand fifteen, and of the Independence of the United States of America the two hundred and thirty-ninth.

[FR Doc. 2015-10896

Filed 5-4-15; 11:15 am]

Billing code 3295-F5